DEPARTMENT OF TRANSPORTATION

Federal Aviation Administration

14 CFR Part 71

[Airspace Docket No. 2000-ASW-20]

Proposed Establishment of Class D Airspace; Shreveport Downtown Airport, Shreveport, LA

AGENCY: Federal Aviation Administration (FAA), DOT.

ACTION: Notice of proposed rulemaking.

SUMMARY: This document proposes to establish Class D airspace extending upward from the surface to but not including 1,600 feet mean sea level (MSL), within a 4.4-mile radius of the Shreveport Downtown Airport, Shreveport, LA. An air traffic control tower will provide air traffic control services for pilots operating at Shreveport Downtown Airport. The intended effect of this proposal is to provide adequate controlled airspace for aircraft operating in the vicinity of Shreveport Downtown Airport, Shreveport, LA.

DATES: Comments must be received on or before February 26, 2001.

ADDRESSES: Send comments on the proposal in triplicate to Manager, Airspace Branch, Air Traffic Division, Federal Aviation Administration, Southwest Region, Docket No. 2000-ASW-20, Fort Worth, TX 76193-0520. The official docket may be examined in the Office of the Regional Counsel, Southwest Region, Federal Aviation Administration, 2601 Meacham Boulevard, Forth Worth, TX, between 9 a.m. and 3 p.m., Monday through Friday, except Federal holidays. An information docket may also be examined during normal business hours at the Airspace Branch, Air Traffic Division, Federal Aviation Administration, Southwest Region, 2601 Meacham Boulevard, Fort Worth, TX.

FOR FURTHER INFORMATION CONTACT: Donald J. Day, Airspace Branch, Air Traffic Division, Federal Aviation Administration, Southwest Region, Fort Worth, TX 76193-0520; telephone: (817) 222-5593.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify the airspace docket number and be submitted in triplicate to the address listed under the caption ADDRESSES. Commenters wishing the FAA to acknowledge receipt of their comments on this proposal must submit, with those comments, a self-addressed, stamped, postcard containing the following statement: “Comments to Airspace Docket No. 2000-ASW-20.” The postcard will be date and time stamped and returned to the commenter. All communications received on or before the specified closing date for comments will be considered before taking action on the proposed rule. The proposal contained in this action may be changed in the light of comments received. All comments submitted will be available for examination in the Office of the Regional Counsel, Southwest Region Federal Aviation Administration, 2601 Meacham Boulevard, Fort Worth, TX, both before and after the closing date for comments. A report summarizing each substantive public contact with FAA personnel concerned with this rulemaking will be filed in the docket.

Availability of NPRM's

Any person may obtain a copy of this Notice of Proposed Rulemaking (NPRM) by submitting a request to the Operations Branch, Air Traffic Division, Federal Aviation Administration, Southwest Region, Fort Worth, TX 76193-0520. Communications must identify the docket number of this NPRM. Persons interested in being placed on a mailing list for future NPRM's should also request a copy of Advisory Circular No. 11-2A that describes the application procedure.

The Proposal

The FAA is considering an amendment to 14 CFR part 71 to establish Class D airspace, controlled airspace extending upward from the surface to but not including 1,600 feet mean sea level (MSL), within a 4.4-mile radius of the Shreveport Downtown Airport, Shreveport, LA. An air traffic control tower will provide air traffic control services for pilots operating at Shreveport Downtown Airport. The intended effect of this proposal is to provide adequate controlled airspace for aircraft operating in the vicinity of Shreveport Downtown Airport, Shreveport, LA.

The coordinates for this airspace docket are based on North American Datum 83. Designated Class D airspace areas are published in Paragraph 5000 of FAA Order 7400.9H, Airspace Designations and Reporting Points, dated September 1, 2000, which is incorporated by reference in 14 CFR 71.1. The Class D airspace designation listed in this document would be published subsequently in the order.

The FAA has determined that this proposed regulation only involves an established body of technical regulations that require frequent and routine amendments to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant impact on a substantial number of small entities under the criteria of the Regulatory Flexibility Act.

List of Subjects in 14 CFR Part 71

Airspace, Incorporation by reference, Navigation (air).

The Proposed Amendment

In consideration of the foregoing, the Federal Aviation Administration proposes to amend 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854; 24 FR 9565, 3 CFR, 1959-1963 Comp., p. 389

§ 71.1 [Amended]

2. The incorporation by reference in 14 CFR 71.1 of Federal Aviation Administration Order 7400.9H, Airspace Designations and Reporting Points, dated September 1, 2000, and effective September 16, 2000, is amended as follows:

Paragraph 5,000 Class D airspace areas.

* * * * *

ASW TX D Shreveport Downtown Airport, LA [New]

Shreveport Downtown Airport, LA

(Lat. 32°32′25″N., long. 93°44′42″W.)

Shreveport, Barksdale AFB, LA

(Lat. 32°0′07″N., long. 93°39′46″W.)

Shreveport Regional Airport, LA

(Lat. 32°26′48″N., long. 93°49′32″W.)

That airspace extending upward from the surface to but not including 1,600 feet MSL within a 4.4-mile radius of Shreveport Downtown Airport, excluding that airspace within the Barksdale AFB, LA and Shreveport Regional Airport, LA Class C Airspace areas. This Class D airspace area is effective during the specific dates and times established in advance by a Notice to Airmen. The effective date and time will thereafter be continuously published in the Airport Facility Directory.

* * * * *

Issued in Fort Worth, TX on December 8, 2000.
Robert N. Stevens,
Acting Manager, Air Traffic Division, Southwest Region.

[FR Doc. 00-32515 Filed 12-22-00; 8:45 am]

BILLING CODE 4910-13-M